DEPARTMENT OF THE TREASURY

Open Meeting of the President's Council on Jobs and Competitiveness (PCJC)

AGENCY: Departmental Offices, Treasury.

ACTION: Notice of Open Meeting.

SUMMARY: The President's Council on Jobs and Competitiveness will meet on February 24, 2011, in the White House State Dining Room, 1600 Pennsylvania Avenue, NW., Washington, DC, beginning at 1:45 p.m. Eastern Time. The meeting will be open to the public via live webcast at http://www.whitehouse.gov/live.

DATES: The meeting will be held on February 24, 2011 at 1:45 p.m. Eastern Time.

ADDRESSES: The PCJC will convene its first meeting in the White House State Dining Room, 1600 Pennsylvania Avenue, NW., Washington, DC. The public is invited to submit written statements to the PCJC by any of the following methods:

Electronic Statements

• Send written statements to the PCJC's electronic mailbox at PCJC@treasury.gov; or

Paper Statements

• Send paper statements in triplicate to John Oxtoby, Designated Federal Officer, President's Council on Jobs and Competitiveness, Office of the Under Secretary for Domestic Finance, Room 1325A, Department of the Treasury, 1500 Pennsylvania Avenue, NW., Washington, DC 20220.

In general, all statements will be posted on the White House website (http://www.whitehouse.gov) without change, including any business or personal information provided such as names, addresses, e-mail addresses, or telephone numbers. The Department will also make such statements available for public inspection and copying in the Department's Library, Room 1428, Main Department Building, 1500 Pennsylvania Avenue, NW., Washington, DC 20220, on official business days between the hours of 10 a.m. and 5 p.m. Eastern Time. You can make an appointment to inspect statements by telephoning (202) 622-0990. All statements received, including attachments and other supporting materials, are part of the public record and subject to public disclosure. You should submit only information that you wish to make available publicly.

FOR FURTHER INFORMATION CONTACT: John Oxtoby, Designated Federal Officer, President's Council on Jobs and Competitiveness, Office of the Under Secretary for Domestic Finance, Department of the Treasury, Main Department Building, 1500 Pennsylvania Avenue, NW., Washington, DC 20220, at (202) 622-2000.

SUPPLEMENTARY INFORMATION: In accordance with section 10(a) of the Federal Advisory Committee Act, 5 U.S.C. App. II, section 10(a), and the regulations thereunder, John Oxtoby, Designated Federal Officer of the Council, has ordered publication of this notice that the PCJC will convene its next meeting on February 24, 2011, in the White House State Dining Room, 1600 Pennsylvania Avenue, NW., Washington, DC, beginning at 1:45 p.m. Eastern Time. The meeting will be broadcast on the internet via live webcast at http://www.whitehouse.gov/live. The purpose of this meeting is to focus on finding new ways to promote growth by investing in American business, to encourage hiring, to educate and train our workers to compete globally, and to attract the best jobs and businesses to the United States. This will be the first meeting of the President's Council on Jobs and Competitiveness. Due to the significant logistical difficulties of convening the members of the Council, the meeting has been scheduled with less than 15 days notice (see 41 CFR 102-3.150(b).

Dated: February 7, 2011.
Alastair Fitzpayne,
Deputy Chief of Staff.

[FR Doc. 2011-3048 Filed 2-9-11; 8:45 am]

BILLING CODE 4810-25-P